DEPARTMENT OF ENERGY

Federal Energy Regulatory Commission

[Docket No. EL99-92-001]

MidAmerican Energy Company; Notice of Filing

April 11, 2000.

Take notice that on March 31, 2000, MidAmerican Energy Company (Midamerican), 666 Grand Avenue, 2900 Ruan Center, Des Moines, Iowa 50309, tendered for filing amendments to Network Integration Transmission Service Agreements with the Municipal Electric Utility of Waverly, Iowa (Waverly); the City of Denver, Iowa (Denver); the City of Sergeant Bluff, Iowa (Sergeant Bluff); the City of Genesco, Illinois (Genesco); and MidAmerican, as wholesale merchant; and amendments to Firm Transmission Service Agreements with the City of Eldridge, Iowa (Eldridge); the Ames Municipal Electric System (Ames); Northwest Iowa Power Cooperative (NIPCO); and Alliant Energy Corporation (Alliant).

MidAmerican states that the amendments have been filed pursuant to Section II.B.1 of the Offer of Settlement approved by the Commission in Docket No. EL99-92-000 on March 17, 2000.

MidAmerican requests an effective date of January 1, 2000 for each of the amendments and a waiver of the Commission's notice requirement.

Copies of the filing were served on Waverly, Denver, Sergeant Bluff, Geneseo, Eldridge, Ames, NIPCO, Alliant, the Iowa Utilities Board, the Illinois Commerce Commission, the South Dakota Public Utilities Commission and all parties to Docket No. EL99-92-000.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before April 21, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-9480 Filed 4-14-00; 8:45 am]

BILLING CODE 6717-01-M